DEPARTMENT OF HEALTH AND HUMAN SERVICES

Health Resources and Services Administration

Statement of Organization, Functions, and Delegations of Authority

This notice amends Part R of the Statement of Organization, Functions and Delegations of Authority of the Department of Health and Human Services (HHS), Health Resources and Services Administration (HRSA) (60 FR 56605, as amended November 6, 1995; as last amended at 88 FR 10124-10125 dated February 16, 2023).

This reorganization updates the functions within the Maternal and Child Health Bureau, Maternal and Child Health Workforce Development.

Chapter RM—Maternal Child Health Bureau

Section RM.20 Function

Delete the functional statement for the Maternal and Child Health Bureau (RM), Division of Maternal and Child Health Workforce Development (RM4) in its entirety and replace with the following:

Division of Maternal and Child Health Workforce Development (RM4)

The Division of Maternal and Child Health Workforce Development provides national leadership and direction in educating and training our nation's current and future leaders in maternal and child health (MCH). The Division also provides leadership through state and community-based capacity building programs. Special emphasis is placed on the development and implementation of interprofessional, family- and person-centered, community-based and culturally responsive systems of care across the life course.

The Division supports programs established and/or expanded in federal law to complement state and local health efforts. The Division partners with state MCH programs, academic institutions, professional organizations, and other health training programs of the federal government to ensure that the MCH workforce development programs are grounded in emerging and evidence-based practices. Specifically, the Division carries out the following activities related to these programs: (1) supports a continuum of training investments to develop MCH leaders at the undergraduate, graduate, and post-graduate levels and workforce development investments for practicing professionals in the areas of public health, clinical practice, teaching, research, and/or administration/policy designed to promote and improve the health and well-being of infants, children, adolescents, children with special health care needs, and transition-age youth and young adults; (2) provides grants that support innovative, community-based initiatives to improve the health of infants, children, adolescents, and their families in rural and other underserved communities by increasing access to preventive care and services; (3) develops policies and guidelines and promotes standards through professional and public education and training activities for the Bureau; (4) develops, coordinates and implements technical assistance and consultation to state and local agencies and organizations or groups concerned with the promotion of health and prevention of disease among infants, children, adolescents, children with special health care needs, and transition-age youth and young adults; (5) provides national guidance and leadership in addressing MCH public health workforce needs; (6) accounts for the administration of funds and other resources for grants, contracts, cooperative agreements and programmatic consultation and assistance; (7) coordinates with other Maternal and Child Health Bureau divisions and offices in promoting program objectives and the mission of the Bureau; (8) provides liaison with public, private, professional and voluntary organizations on programs and activities; (9) disseminates information and resources on its training and workforce development activities grantees, partners, and stakeholders; and (10) participates in the development of strategic plans, regulatory activities, policies, legislative proposals, and budget submissions.

Section RM.30 Delegation of Authority

All delegations of authority and re-delegations of authority made to officials and employees of affected organizational components will continue in them or their successors pending further redelegation, if allowed, provided they are consistent with this reorganization.

This reorganization is effective upon date of signature.

(Authority: 44 U.S.C. 3101)

Carole Johnson,
Administrator.

[FR Doc. 2023-14845 Filed 7-12-23; 8:45 am]

BILLING CODE 4165-15-P